DEPARTMENT OF THE INTERIOR

Bureau of Land Management

NV-050-5853-ES; N-81544; 8-08807; TAS:14X5232]

Notice of Realty Action: Lease/Conveyance for Recreation and Public Purposes of Public Lands in Clark County, NV

AGENCY: Bureau of Land Management, Interior.

ACTION: Notice of Realty Action.

SUMMARY: Recreation and Public Purposes (R&PP) Act request for lease and subsequent conveyance of approximately 10 acres of public land in the City of Henderson, Clark County, Nevada. The City of Henderson proposes to use the land for a city fire station and public park.

DATES: Interested parties may submit written comments regarding the proposed lease/conveyance of the lands until January 28, 2008.

ADDRESSES: Mail written comments to the BLM Field Manager, Las Vegas Field Office, 4701 N. Torrey Pines Drive, Las Vegas, NV, 89130-2301.

FOR FURTHER INFORMATION CONTACT: Phil Rhinehart, (702) 515-5182.

SUPPLEMENTARY INFORMATION: The following described public land in Clark County, Nevada has been examined and found suitable for lease and subsequent conveyance under the provisions of the R&PP Act, as amended (43 U.S.C. 869 et seq). The parcel of land is located in the southeast corner of St. Rose Parkway via the newly adopted alignment of Rancho Destino Street and Bowles Street, Henderson, Nevada, and is legally described as:

Mount Diablo Meridian, Nevada

T. 23 S., R. 61 E.,

Sec. 9, SW¼NE¼NW¼.

The area described contains 10 acres, more or less.

In accordance with the R&PP Act, the City of Henderson has filed an R&PP application to develop the above described land as a city fire station and public park with related facilities to meet the emergency service and park space needs of this rapidly growing area. Related facilities include a fire warehouse, outdoor vehicle storage, training facilities, parking, public restrooms, shade structures, and pedestrian trails. Additional detailed information pertaining to this application, plan of development, and site plan is in case file N-81544, which is located in the BLM Las Vegas Field Office at the above address.

Cities are a common applicant under the public purposes provision of the R&PP Act. The City of Henderson is a political subdivision of the State of Nevada and is therefore a qualified applicant under the R&PP Act. The land is not required for any Federal purpose. The lease/conveyance is consistent with the BLM Las Vegas Resource Management Plan, dated October 5, 1998, and would be in the public interest. The lease/conveyance, when issued, will be subject to the provisions of the R&PP Act and applicable regulations of the Secretary of the Interior, and will contain the following reservations to the United States:

1. A right-of-way thereon for ditches or canals constructed by the authority of the United States, Act, of August 30, 1890 (43 U.S.C. 945).

2. All minerals shall be reserved to the United States, together with the right to prospect for, mine and remove such deposits from the same under applicable law and such regulations as the Secretary of the Interior may prescribe.

The lease/conveyance will be subject to:

1. Valid existing rights;

2. A right-of-way for an underground distribution line granted to Nevada Power Company, its successors and assigns, by right-of-way N-75952, pursuant to the Act of October 21, 1976, 090 Stat. 2776, 43 U.S.C. 1761;

3. A right-of-way for roads, drainage, and municipal utilities granted to the City of Henderson, its successors or assigns, by right-of-way N-77148, pursuant to the Act of October 21, 1976, 090 Stat. 2776, 43 U.S.C. 1761;

4. A right-of-way for fiber optic facilities granted to Nevada Power Company, its successor and assigns, by right-of-way N-78680, pursuant to the Act of October 21, 1976, 090 Stat. 2776, 43 U.S.C. 1761;

5. A right-of-way for power transmission lines granted to Nevada Power Company, its successors and assigns, by right-of-way N-78683, pursuant to the Act of October 21, 1976, 090 Stat. 2776, 43 U.S.C. 1761;

6. A right-of-way for power transmission lines granted to Nevada Power Company, its successors and assigns, by right-of-way N-78827, pursuant to the Act of October 21, 1976, 090 Stat. 2776, 43 U.S.C. 1761;

7. A right-of-way for an underground distribution line granted to Nevada Power Company, its successors and assigns, by right-of-way N-83665, pursuant to the Act of October 21, 1976, 090 Stat. 2776, 43 U.S.C. 1761.

Upon publication of this notice in the Federal Register, the land described above will be segregated from all other forms of appropriation under the public land laws, including the general mining laws, except for lease/conveyance under the R&PP Act, leasing under the mineral leasing laws and disposals under the mineral material disposal laws.

Interested parties may submit written comments regarding the specific use proposed in the application and plan of development, whether BLM followed proper administrative procedures in reaching the decision to lease/convey under the R&PP Act, or any other factor not directly related to the suitability of the land for R&PP use. Any adverse comments will be reviewed by the BLM Nevada State Director, who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Las Vegas Field Office, will be considered properly filed. Electronic mail, facsimile, or telephone comments will not be considered properly filed. Comments, including names and addresses of respondents, will be available for public review.

In the absence of any adverse comments, the decision will become effective on February 12, 2008. The lands will not be available for lease/conveyance until after the decision becomes effective.

(Authority: 43 CFR 2741.5)

Dated: November 30, 2007.
Mark Chatterton,
Assistant Field Manager, Non-Renewable Resources, Las Vegas, Nevada.

[FR Doc. E7-24219 Filed 12-13-07; 8:45 am]

BILLING CODE 4310-HC-P